DEPARTMENT OF THE INTERIOR

Bureau of Land Management

[18X LLWO600000.L18200000.XP0000]

FY2020 National Call for Nominations for Resource Advisory Councils

AGENCY: Bureau of Land Management, Interior.

ACTION: Notice of call for nominations.

SUMMARY: The purpose of this notice is to request public nominations for 11 of the Bureau of Land Management's (BLM) statewide and regional Resource Advisory Councils (RAC) located in the West that have vacant positions and/or members whose terms are scheduled to expire. These RACs provide advice and recommendations to the BLM on land use planning and management of the National System of Public Lands within their geographic areas.

DATES: All nominations must be received no later than November 13, 2020.

ADDRESSES: Nominations and completed applications should be sent to the appropriate BLM offices listed in the SUPPLEMENTARY INFORMATION section of this notice.

FOR FURTHER INFORMATION CONTACT: Carrie Richardson, BLM Communications, 1849 C Street NW, Room 5614, Washington, DC 20240, email: crichardson@blm.gov. Persons who use a telecommunications device for the deaf (TDD) may call the Federal Relay Service (FRS) at 1-800-877-8339 to contact Ms. Richardson during normal business hours. The FRS is available 24 hours a day, 7 days a week, to leave a message or question. You will receive a reply during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784. The RACs include the following three membership categories:

Category One—Holders of Federal grazing permits or leases within the area for which the RAC is organized; represent interests associated with transportation or rights-of-way; represent developed outdoor recreation, off-highway vehicle users, or commercial recreation activities, including, for example, commercial/charter or recreational fishing; represent the commercial timber industry; or represent energy and mineral development.

Category Two—Representatives of nationally or regionally recognized environmental organizations; dispersed recreational activities, including, for example, hunting and shooting sports; archaeological and historical interests; or nationally or regionally recognized wild horse and burro interest groups.

Category Three—Hold State, county, or local elected office; are employed by a State agency responsible for the management of natural resources, land, or water, including, for example, State/local fire associations; represent Indian tribes within or adjacent to the area for which the RAC is organized; are employed as academicians in natural resource management or the natural sciences; or represent the affected public at large, including, for example, sportsmen and sportswomen communities.

Individuals may nominate themselves or others. Nominees must be residents of the State in which the RAC has jurisdiction. The BLM will evaluate nominees based on their education, training, experience, and knowledge of the geographic area of the RAC. Nominees should demonstrate a commitment to collaborative resource decision-making.

The following must accompany all nominations:

—A completed RAC application, which can either be obtained through your local BLM office or online at: https://www.blm.gov/sites/blm.gov/files/1120-019_0.pdf.

—Letters of reference from represented interests or organizations; and

—Any other information that addresses the nominee's qualifications.

Simultaneous with this notice, BLM State Offices will issue press releases providing additional information for submitting nominations.

Before including any address, phone number, email address, or other personal identifying information in the application, nominees should be aware this information may be made publicly available at any time. While the nominee can ask to withhold the personal identifying information from public review, the BLM cannot guarantee that it will be able to do so.

Nominations and completed applications for RACs should be sent to the appropriate BLM offices listed below:

Arizona

Arizona RAC

Dolores Garcia, BLM Arizona State Office, 1 North Central Avenue, Suite 800, Phoenix, AZ 85004; Phone: (602) 417-9241.

California

California Desert District Resource Advisory Council

Michelle Van Der Linder, BLM California Desert District Office, 22835 Calle San Juan de Los Lagos, Moreno Valley, CA 92553; Phone: (951) 567-1531.

Northern California RAC

Jeff Fontana, BLM Eagle Lake Field Office, 2550 Riverside Drive, Susanville, CA 96130; Phone: (530) 252-5332.

Montana and Dakotas

Western Montana RAC

David Abrams, BLM Western Montana District Office, 106 North Parkmont, Butte, MT 59701; Phone: (406) 533-7617.

New Mexico

Southern New Mexico RAC

Glen Garnand, BLM Roswell Field Office, 2909 West Second Street, Roswell, NM 88201; Phone: (575) 627-0209.

Northern New Mexico RAC

Jillian Aragon, BLM Farmington Field Office, 6251 College Boulevard, Suite A, Farmington, NM 87402; Phone: (505) 564-7722.

Oregon/Washington

Eastern Washington RAC

Jeff Clark, BLM Spokane District Office, 1103 North Fancher Road, Spokane, WA 99212; Phone: (509) 536-1297.

John Day-Snake RAC

Larisa Bogardus, BLM Baker Field Office, 3100 H Street, Baker City, OR 97754; Phone: (541) 219-6863.

Southeast Oregon RAC

Lisa McNee, BLM Lakeview District Office, 1301 South G Street, Lakeview, OR 97630; Phone: (541) 947-6811.

Western Oregon RAC

Kyle Sullivan, BLM Medford District Office, 3040 Biddle Road, Medford, OR 97501; Phone: (541) 618-2340.

Wyoming

Wyoming RAC

Brad Purdy, BLM Wyoming State Office, 5353 Yellowstone Road, Cheyenne, WY 82009; Phone: (307) 775-6328.

Authority: 43 CFR 1784.4-1.

Matthew Buffington,
Assistant Director for Communications.

[FR Doc. 2020-22702 Filed 10-13-20; 8:45 am]

BILLING CODE 4310-84-P